DEPARTMENT OF THE INTERIOR

Office of the Secretary

Privacy Act of 1974, As Amended; Addition of a New System of Records

AGENCY: Department of the Interior.

ACTION: Proposed addition of a new system of records.

SUMMARY: The Department of Interior is issuing public notice of its intent to add a new department-wide Privacy Act system of records to its inventory of records systems subject to the Privacy Act of 1974 (5 U.S.C. 552a). This action is necessary to meet the requirements of the Privacy Act to publish in the Federal Register notice of the existence and character of records systems maintained by the agency (5 U.S. C. 552a(e)(4)). The new system of records is called the “Interior Child Care Subsidy Program Records System.”

EFFECTIVE DATE: 5 U.S.C. 552a(e)(11) requires that the public be provided a 30-day period in which to comment on the intended use of the information in the system of records. The Office of Management and Budget, in its Circular A-130, requires an additional 10-day period (for a total of 40 days) in which to make these comments. Any persons interested in commenting on this proposed system of records may do so by submitting comments in writing to the Office of the Secretary Freedom of Information Act/Privacy Act Officer, U.S. Department of the Interior, National Business Center, MS 1414 MIB, 1849 C Street NW, Washington, DC 20240, or by e-mail at osfoia@nbc.gov. Comments received within 40 days of publication in the Federal Register will be considered. The system will be effective as proposed at the end of the comment period unless comments are received which would require a contrary determination. In that case the Department will publish any changes to the routine uses.

FOR FURTHER INFORMATION CONTACT: Sue Ellen Sloca, Office of the Secretary Freedom of Information Act/Privacy Act Officer, by phone at 202-208-6045, by fax at 202-208-5048, by e-mail at osfoia@nbc.gov, or by mail at U.S. Department of the Interior, National Business Center, MS 1414 MIB, 1849 C Street NW, Washington, DC 20240.

SUPPLEMENTARY INFORMATION: The Interior Child Care Subsidy Program Records system will contain information from Interior employees collected for the purpose of determining their eligibility for the child care subsidy program and the amounts of their subsidy. The system will contain information about the employee, the employee's spouse, the child or children for whom the employee applies for a child care subsidy, and the employee's child care provider(s). The information collected will include the employee's name, spouse's name, employee's title, grade, and salary, the employee's home and work telephone numbers, the employee's home and work addresses, the organization in which the employee works, the employee's Social Security Number, the spouse's Social Security Number, the employee's tax returns, the spouse's tax returns, the name and Social Security Number of the child on whose behalf the parent is applying for a subsidy, the child's date of birth, the date of entry into the Child Care Subsidy Program, and the amount of subsidy received; the name, address, telephone number, employer identification number (EIN), license and accreditation status of the child care center in which the employee's child(ren) is (are) enrolled, and the dates of attendance. Collection of data will be by child care subsidy application forms submitted by employees. A copy of the system notice for “Interior Child Care Subsidy Program Records,” DOI-01, follows:

Dated: February 9, 2001.
Sue Ellen Sloca,
Office of the Secretary Freedom of Information Act/Privacy Act Officer, National Business Center.

INTERIOR/DOI-01

System Name:

Interior Child Care Subsidy Program Records.

Security Classification:

None.

System Location:

U.S. Department of the Interior, Office of the Secretary, Labor/Employee Relations and Systems Group, MS 5221 MIB, Washington, D.C. 20240.

Categories of Individuals Covered by the System:

(1) Present and former employees of the Department of the Interior who voluntarily apply for a child care subsidy, their spouses, and children who are enrolled in government-subsidized child care.

(2) Child-care providers of these employees.

Categories of Records in the System:

The information collected will include the employee's name, spouse's name, employee's title, grade, and salary, the employee's home and work telephone numbers, the employee's home and work addresses, the organization in which the employee works, the employee's Social Security Number, the spouse's Social Security Number, the employee's tax returns, the spouse's tax returns, the name and Social Security Number of the child on whose behalf the parent is applying for a subsidy, the child's date of birth, the date of entry into the Child Care Subsidy Program, and the amount of subsidy received; the name, address, telephone number, employer identification number (EIN), license and accreditation status of the child care center in which the employee's child(ren) is (are) enrolled, and the dates of attendance.

Authority for Maintenance of the System:

Pub. L. 105-554, section 633 and Executive Order 9397.

Purpose(s):

The primary use of the records maintained in this system is to establish and verify Department of the Interior employees' eligibility for child care subsidies in order to provide monetary assistance to them. Other uses of the records in the system include verifying the eligibility of child care centers and verifying compliance with regulations.

Routine Uses of Records Maintained in the System, Including Categories of Users and the Purposes of such uses:

Disclosures outside the Department of the Interior may be made under the routine uses listed below without the consent of the individual if the disclosure is compatible with the purposes for which the record was collected.

(1) To an expert, consultant, or contractor (including employees of the contractor) of the Department that performs, on the Department's behalf, services requiring the use of these records.

(2) To child care providers, in order to verify a covered child's dates of attendance at the provider's facility.

(3) The Department of Justice, or to a court, adjudicative or other administrative body, or to a party in litigation before a court or adjudicative or administrative body, when:

(a) One of the following is a party to the proceeding or has an interest in the proceeding:

(1) The Department or any component of the Department;

(2) Any Departmental employee acting in his or her official capacity;

(3) Any Departmental employee acting in his or her individual capacity where the Department or the Department of Justice has agreed to represent the employee, or

(4) The United States, when the Department determines that the Department is likely to be affected by the proceeding; and

(b) The Department deems the disclosure to be:

(1) Relevant and necessary to the proceedings; and

(2) Compatible with the purpose for which we compiled the information.

(4) To appropriate Federal, State, local or foreign agencies responsible for investigating or prosecuting the violation of or for enforcing or implementing a statute, rule, regulation, order or license, when the Department becomes aware of a violation or potential violation of a statute, rule, regulation, order or license.

(5) To a congressional office in response to an inquiry an individual has made to the congressional office.

(6) To the Office of Personnel Management or the General Accounting Office when the information is required for evaluation of the child care subsidy program.

Disclosure to Consumer Reporting Agencies:

Not applicable.

Policies and Practices for Storing, Retrieving, Accessing, Retaining, and Disposing of Records in the System:

Storage:

Records are stored both in file folders, and in electronic form, in computer systems.

Retrievability:

Records are retrieved by the names and Social Security Numbers of employees applying for child care subsidies.

Safeguards:

Access to records in the system is limited to authorized personnel whose official duties require such access. Paper records are maintained in locked metal file cabinets and/or in secured rooms. Electronic records are password-protected and maintained with safeguards meeting the security requirements of 43 CFR 2.51.

Retention and Disposal:

Records are retained and disposed of in accordance with National Archives and Records Administration guidelines and authorized Office of the Secretary records schedules.

System Manager(s) and Address:

Team Leader, Labor/Employee Relations and Systems Group, Office of the Secretary, U.S. Department of the Interior, MS 5221 MIB, Washington, D.C. 20240.

Notification Procedures:

Inquiries regarding the existence of records contained in the system should be addressed to the System Manager. The request must be in writing, signed by the requester, include the requester's full name and Social Security Number, and meet the content requirements of 43 CFR 2.60.

Record Access Procedures:

A request for access to records contained in the system should be addressed to the System Manager. The request must be in writing, signed by the requester, include the requester's full name and Social Security Number, and meet the content requirements of 43 CFR 2.62.

Contesting Record Procedures:

A petition for amendment of records contained in the system should be addressed to the System Manager. The request must be in writing, signed by the requester, include the requester's full name and Social Security Number, and meet the content requirements of 42 CFR 2.71.

Record Source Categories:

Applications for child care subsidies and supporting records, which are voluntarily submitted by Interior employees applying for child care subsidies.

Exemptions Claimed for the System:

None.

Privacy Act of 1974—Narrative Statement for a New System of Records to Implement the Interior Department Childcare Subsidy Program

The purpose of the new system of records is to collect information from employees of the Interior Department in order to determine their eligibility for childcare subsidy in the form of tuition assistance, to determine the amount of the subsidy, and to implement the program for eligible employees. The new system of records also collects information from employees' child care provider(s) for verification purposes, such as ensuring that providers are licensed, and information needed to issue payments directly to child care providers.

Authority for the Interior Department's childcare subsidy program is found in the Consolidated Appropriations Act of 2001, Public Law 106-544, which permits Federal agencies to use appropriated funds available for salaries to assist lower income employees with their child care costs. (See Section 633 of H.R. 5658, incorporated by reference into Public Law 106-544.) The authority in the Consolidated Appropriations Act of 2001 expires at the end of fiscal year 2001. If legislation is enacted extending the authority, the Department may choose to continue to operate this program if appropriated funds are available. The notice of establishment of this system of records is intended to cover the potential extension of the program.

It is estimated that one percent of Interior Department employees might be eligible for the subsidy. If one percent apply for the subsidy, the total number of individual records will not exceed 6000.

The Interior Department proposes to enter into a contract with a non-federal organization to process the applications and implement the program. This contractor will receive employees completed applications and determine eligibility and tuition assistance amount based on a formula determined by the Interior Department. The non-federal organization is currently administering the childcare subsidy programs for other federal agencies, and as a result currently handles federal employee personal information and has established procedures to minimize the risk of unauthorized access to the system of records. The contract between the Interior Department and the non-federal organization will require the organization to adhere to federal standards of privacy.

The new system of records will collect income and provider data on an application form (“Child Care Provider Information Form—OPM Form 1644” [OMB Clearance Number 3206-0240]) submitted by employees. The application will only request personal data that is necessary to determine whether an employee is eligible for the subsidy and information necessary to administer the subsidy for eligible employees. The system will contain information from only those individuals who choose to apply for the subsidy. The proposed collection of records will only be used for the purpose of determining eligibility, determining the amount of the subsidy, and for administration of the subsidy program.

The proposal relates to State and local governments. One of the requirements of the subsidy is for childcare providers to be licensed or regulated in the state or location in which they operate. Childcare providers will be required to submit a copy of their latest license and/or statement of compliance from their state and/or local authority.

This system of records does not entail any changes to computer installations, communications networks, or any other general changes in information collection, handling, storage or dissemination.

[FR Doc. 01-3702 Filed 2-13-01; 8:45 am]

BILLING CODE 4310-RJ-P